DEPARTMENT OF TRANSPORTATION

Federal Aviation Administration

[Summary Notice No. PE-2008-42]

Petition for Exemption; Summary of Petition Received

AGENCY: Federal Aviation Administration (FAA), DOT.

ACTION: Reopening of comment period.

SUMMARY: In accordance with 14 CFR 11.47(c), the FAA has received petitions from the Association of Flight Attendants-CWA, AFL-CIO (AFA-CWA) and the Air Line Pilots Association, International (ALPA). Those petitions requested an extension of the comment period for a petition from The Boeing Company. That exemption, if granted, would provide Boeing relief from certain pressurized cabin requirements in regard to uncontained engine failure for Boeing Model 747-8/8F series airplanes. The FAA finds that AFA-CWA and ALPA have substantive interest in the exemption request and show that good cause exists to extend the comment period because it is in the public's interest.

DATE: The comment period for the Summary of Petition Received published on August 22, 2008 (73 FR 49734), closed September 11, 2008, and is reopened until October 8, 2008.

ADDRESSES: You may send comments identified by Docket Number FAA-2008-0826 using any of the following methods:

• Government-wide rulemaking Web site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue, SE., Washington, DC, between 9 a.m. and 5 p.m., Monday through Friday, except Federal holidays.

FOR FURTHER INFORMATION CONTACT: Kenna Sinclair (425) 227-1556, Transport Airplane Directorate, ANM-113, Federal Aviation Administration, 1601 Lind Avenue, SE., Renton, WA 98055-4056; or Fran Shaver (202) 267-9681, Office of Rulemaking, Federal Aviation Administration, 800 Independence Avenue, SW., Washington, DC 20591.

This notice is published pursuant to 14 CFR 11.85.

Issued in Washington, DC, on September 18, 2008.
Pamela Hamilton-Powell,
Director, Office of Rulemaking.

[FR Doc. E8-22169 Filed 9-22-08; 8:45 am]

BILLING CODE 4910-13-P